DEPARTMENT OF STATE

[Public Notice 7630]

Waiver of Restriction on Assistance to the Central Government of Côte d'Ivoire

Pursuant to Section 7086(c)(2) of the Department of State, Foreign Operations, and Related Programs Appropriations Act, 2010 (Div. F, Pub. L. 111-117) (SFOAA), Section 7086(c)(2) of the SFOAA as carried forward by the Full-Year Continuing Appropriations Act 2011(Div. B, Pub. L. 112-10), and Department of State Delegation of Authority Number 245-1, I hereby determine that it is important to the national interest of the United States to waive the requirements of Section 7086(c)(1) of the SFOAA and Section 7086(c)(1) of the 2011 Full-Year Continuing Appropriations Act with respect to Côte d'Ivoire and I hereby waive such restrictions.

This determination shall be reported to the Congress, and published in the Federal Register.

Dated: July 20, 2011.
Thomas Nides,
Deputy Secretary of State for Management and Resources.

[FR Doc. 2011-25438 Filed 9-30-11; 8:45 am]

BILLING CODE 4710-26-P